CORPORATION FOR NATIONAL AND COMMUNITY SERVICE

Notice of Tribal Consultation Meeting

AGENCY: Corporation for National and Community Service.

ACTION: Notice of meeting.

SUMMARY: The Corporation for National and Community Service (operating as AmeriCorps) gives notice of a closed Tribal Consultation Meeting.

DATES: Friday, April 9, 2021 from 3:00-4:00 p.m. (EDT)

ADDRESSES: The meeting will be held virtually, via Zoom. Tribal leaders may register to participate through https://americorps.zoomgov.com/webinar/register/WN_fMs_ZQS9Qay-a32vHXtYig and receive the Zoom link. Tribal communities can also submit written comments to yshaheenmcconnell@cns.gov with the subject line: “Comments for April 9, 2021 AmeriCorps Tribal Consultation Meeting.” Comments must be sent by April 7, 2021.

FOR FURTHER INFORMATION CONTACT: Yasmeen Shaheen-McConnell, Strategic Advisor for Native American Affairs, phone: 202-967-5646, or by email to yshaheenmcconnell@cns.gov.

Reasonable Accommodation: AmeriCorps provides reasonable accommodation where appropriate. Anyone who needs an interpreter or other accommodation should email Yasmeen Shaheen-McConnell, Strategic Advisor for Native American Affairs, at yshaheenmcconnell@cns.gov, or by phone at 202-967-5646 by 5:00 p.m. (EDT) on March 31, 2021.

SUPPLEMENTARY INFORMATION: In alignment with the January 26, 2021 Presidential Memorandum on Tribal Consultation and Strengthening Nation-to-Nation Relationships and Executive Order 13175, AmeriCorps invites Tribal leaders to discuss their needs and concerns related to AmeriCorps resources and AmeriCorps' Tribal Consultation policy in this meeting. AmeriCorps plans to consider this input for incorporation into our Tribal Consultation policy and support we provide to Tribal communities across the U.S. The meeting agenda will be:

1. Input on AmeriCorps' Tribal Consultation policy.

2. Barriers for tribal communities to access AmeriCorps resources.

a. Ways AmeriCorps can support COVID response and recovery.

b. Ways AmeriCorps can support veterans and military families.

3. Barriers for tribal community members to serve with AmeriCorps.

a. Ways AmeriCorps can support members of tribal communities to serve or continue to serve in our programs

4. Barriers for tribal grantees to achieve compliance with grant requirements

a. Ways to reduce administrative burden and further support tribal grantees to successfully comply with financial and programmatic requirements, including National Service Criminal History Checks.

Dated: March 8, 2021.
Lisa Guccione,
Deputy Chief of Staff.

[FR Doc. 2021-05140 Filed 3-11-21; 8:45 am]

BILLING CODE 6050-28-P